DEPARTMENT OF HEALTH AND HUMAN SERVICES

Centers for Disease Control and Prevention

[Program Announcement 01107]

Environmental Health Epidemiology Program for Latin American and Caribbean Countries; Notice of Availability of Funds

A. Purpose

The Centers for Disease Control and Prevention (CDC) announces the availability of fiscal year (FY) 2001 funds for a cooperative agreement with the Pan American Health Organization (PAHO). This program addresses the “Healthy People 2010” focus area of Environmental Health.

The purpose of the program is to further develop and establish an environmental health epidemiology, surveillance, and laboratory program for the Latin American and Caribbean countries.

The objectives are to: Collaborate with Latin American and Caribbean countries (LAC) in the conduct of environmental epidemiology studies of populations exposed to environmental contaminants and other harmful agents.

Provide instruction and training to enhance the development of information systems to promote epidemiologic and environmental surveillance in the LAC.

Promote and enhance environmental laboratories for environmental surveillance and exposure assessment; promote and enhance development of methodology for assessment of exposure of populations to environmental contaminants.

Promote and enhance environmental health risk communication in the LAC region.

Work with collaborating centers to implement training programs in the LAC region, and provide access to other existing programs, including those delivered by distance learning approaches.

Implement global environmental health programs that address strategic issues, such as the Children's Health and Environment in Latin America and the Caribbean (CHELAC) initiative.

No human subjects research will be supported under this cooperative agreement.

B. Eligible Applicant

Assistance will be provided only to the Pan American Health Organization. No other applications are solicited.

The Pan American Health Organization is the most appropriate and qualified agency to provide the services specified under this cooperative agreement because:

PAHO coordinates international health activities for countries and territories of Latin America and the Caribbean. Their access to member States (Latin American and Caribbean countries) and their public health programs is unique in this region.

PAHO has the lead in advancing environmental public health in Latin America and the Caribbean. PAHO is the only organization serving Latin America and the Caribbean with a focus on the health impact of agricultural and industrial development. PAHO provides epidemiologic and toxicologic risk assessment and support required for the prevention of health risks associated with toxic wastes and their air and water pollution byproducts, food contamination, and other environmental health and occupational hazards and diseases.

PAHO has long standing expertise in regional disease surveillance, application of technology in different settings, development of training methods for health personnel, use of research to clarify and resolve health problems, and integration of different health programs to achieve maximum efficiency and effectiveness.

The proposed program is strongly supportive of and directly related to the achievement of PAHO and CDC/National Center for Environmental Health (NCEH) and Office on Smoking and Health (OSH) research, development, and implementation programs in environmental health epidemiology, surveillance, and prevention.

Note: Title 2 of the United States Code, Chapter 26, Section 1611 states that an organization described in Section 501(c) of the Internal Revenue Code of 1986 that engages in lobbying activities is not eligible to receive Federal funds constituting an award, grant, cooperative agreement, contract, loan, or any other form.

C. Availability of Funds

Approximately $499,300 is available in FY 2001 to support this program. It is expected that the award will begin on September 30, 2001, and will be made for a 12-month budget period within a project period of up to five years. Funding estimates may change.

Continuation awards within an approved project period will be made on the basis of satisfactory progress as evidenced by required reports and the availability of funds.

D. Where to Obtain Additional Information

To obtain business management technical assistance, contact: Sharron Orum, Lead, Grants Management Specialist, Grants Management Branch, Procurement and Grants Office, Centers for Disease Control and Prevention, 2920 Brandywine Road, Room 3000, Atlanta, GA 30341-4146, Telephone number: (770) 488-2716, Email address: spo2@cdc.gov.

For program technical assistance, contact: Michael A. McGeehin, PhD, MSPH Director, Division of Environmental Hazards and Health Effects, National Center for Environmental Health, 6 Executive Park Drive, Atlanta, GA 30329, Telephone number: (404) 498-1300, Email address: Mmcgeehin@cdc.gov.

Dated: June 22, 2001.
John L. Williams,
Director, Procurement and Grants Office, Centers for Disease Control and Prevention (CDC).

[FR Doc. 01-16246 Filed 6-27-01; 8:45 am]

BILLING CODE 4163-18-P